DEPARTMENT OF THE TREASURY

Internal Revenue Service

26 CFR Part 1

[REG-143544-04]

RIN 1545-BD84

Regulations Enabling Elections for Certain Transactions Under Section 336(e); Correction

AGENCY: Internal Revenue Service (IRS), Treasury.

ACTION: Correction to notice of proposed rulemaking.

SUMMARY: This document contains corrections to a notice of proposed rulemaking (REG-143544-04) that was published in the Federal Register on Monday, August 25, 2008 (73 FR 49965) under section 336(e) of the Internal Revenue Code. The proposed regulations, when finalized, would permit taxpayers to make an election to treat certain sales, exchanges, and distributions of another corporation's stock as taxable sales of that corporation's assets. These proposed regulations will affect corporations and their shareholders.

FOR FURTHER INFORMATION CONTACT: Mark J. Weiss, (202) 622-7750 (not a toll-free number).

SUPPLEMENTARY INFORMATION:

Background

The correction notice that is the subject of this document is under sections 336 and 338 of the Internal Revenue Code.

Need for Correction

As published, the notice of proposed rulemaking (REG-143544-04) contains errors that may prove to be misleading and are in need of clarification.

Correction of Publication

Accordingly, the publication of the notice of proposed rulemaking (REG-143544-04), which was the subject of FR Doc. E8-19603, is corrected as follows:

1. On page 49967, column 2, in the preamble, under the paragraph heading “2. Requirements for a Section 336(e) Election”, line 2 from the bottom of the column, the language “1(b)(4)(iii), 1.336-1(b)(11), and 1.338-” is corrected to read “1(b)(4)(iii) and 1.336-1(b)(11), and § 1.338-”.

§ 1.336-2 [Corrected]

2. On page 49973, column 3, § 1.336-2(b)(1)(i)(B)(3) Example 2.(i), line 5, the language “class of Target Subsidiary common stock” is corrected to read “class of Target Subsidiary stock”.

3. On page 49975, column 2, § 1.336-2(b)(2)(v), line 10, the language “unrelated person and the subsidiary's” is corrected to read “unrelated person and the new subsidiary's”.

LaNita Van Dyke,
Chief, Publications and Regulations Branch, Legal Processing Division, Associate Chief Counsel (Procedure and Administration).

[FR Doc. E8-22822 Filed 9-26-08; 8:45 am]

BILLING CODE 4830-01-P